SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: September 1-October 31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (e) and (f) for the time period specified above.

Approvals By Rule—Issued Under 18 CFR 806.22(e):

1. ASC Engineered Solutions, LLC; Columbia Facility; ABR-202509003; Columbia Borough, Lancaster County, Pa.; Consumptive Use of Up to 0.2490 mgd; Approval Date: September 26, 2025.

2. Kenvue Brands LLC; ABR-202510001; Lititz Borough and Warwick Township, Lancaster County, Pa.; Consumptive Use of Up to 0.3500 mgd; Approval Date: October 17, 2025.

Approvals By Rule—Issued Under 18 CFR 806.22(f):

1. MODIFICATION—JKLM Energy, LLC; Pad ID: Belz 2001; ABR-202506002.1; Tioga Township, Tioga County, Pa.; Consumptive Use of Up to 4.5000 mgd; Approval Date: September 4, 2025.

2. RENEWAL—Expand Operating LLC; Pad ID: SGL-12 P UNIT PAD; ABR-202007001.R1; Franklin Township, Bradford County, Pa.; Consumptive Use of Up to 7.5000 mgd; Approval Date: September 4, 2025.

3. JKLM Energy, LLC; Pad ID: Rut 1 Well Site; ABR-202509001; Rutland and Jackson Townships, Tioga County, Pa.; Consumptive Use of Up to 4.5000 mgd; Approval Date: September 10, 2025.

4. RENEWAL—Expand Operating LLC; Pad ID: McCarty Drilling Pad #1; ABR-20100676.R3; Elkland Township, Sullivan County, Pa.; Consumptive Use of Up to 7.5000 mgd; Approval Date: September 10, 2025.

5. RENEWAL—Repsol Oil & Gas USA, LLC; Pad ID: DRUMM G2; ABR-201505009.R2; Bradford Town, Steuben County, Ny.; Consumptive Use of Up to 0.0800 mgd; Approval Date: September 10, 2025.

6. RENEWAL—Coterra Energy Inc.; Pad ID: HullR P2; ABR-20100612.R3; Springville Township, Susquehanna County, Pa.; Consumptive Use of Up to 5.0000 mgd; Approval Date: September 19, 2025.

7. RENEWAL—Coterra Energy Inc.; Pad ID: RozellC P1; ABR-20100542.R3; Jessup and Bridgewater Townships, Susquehanna County, Pa.; Consumptive Use of Up to 5.0000 mgd; Approval Date: September 19, 2025.

8. RENEWAL—Diversified Production LLC; Pad ID: Phoenix C; ABR-201006114.R3; Duncan Township, Tioga County, Pa.; Consumptive Use of Up to 3.0000 mgd; Approval Date: September 19, 2025.

9. RENEWAL—EQT ARO LLC; Pad ID: Chapman Bohlin Pad A; ABR-202009002.R1; Cascade Township, Lycoming County, Pa.; Consumptive Use of Up to 4.0000 mgd; Approval Date: September 19, 2025.

10. RENEWAL—EQT ARO LLC; Pad ID: COP 551 Pad B; ABR-202009001.R1; McIntyre Township, Lycoming County, Pa.; Consumptive Use of Up to 4.0000 mgd; Approval Date: September 19, 2025.

11. RENEWAL—EQT ARO LLC; Pad ID: COP Tr 342 A; ABR-20100695.R3; Beech Creek Township, Clinton County, Pa.; Consumptive Use of Up to 4.0000 mgd; Approval Date: September 19, 2025.

12. RENEWAL—EQT ARO LLC; Pad ID: COP Tr 344 Pad A; ABR-20100694.R3; Noyes Township, Clinton County, Pa.; Consumptive Use of Up to 4.0000 mgd; Approval Date: September 19, 2025.

13. RENEWAL—EQT ARO LLC; Pad ID: Robert C Ulmer Pad A; ABR-201007049.R3; Watson Township, Lycoming County, Pa.; Consumptive Use of Up to 4.0000 mgd; Approval Date: September 19, 2025.

14. RENEWAL—Expand Operating LLC; Pad ID: Connell; ABR-201009084.R3; Cherry Township, Sullivan County, Pa.; Consumptive Use of Up to 7.5000 mgd; Approval Date: September 19, 2025.

15. RENEWAL—Expand Operating LLC; Pad ID: Decker Farms; ABR-201009037.R3; Rush Township, Susquehanna County, Pa.; Consumptive Use of Up to 7.5000 mgd; Approval Date: September 19, 2025.

16. RENEWAL—Repsol Oil & Gas USA, LLC; Pad ID: YURKANIN (03 014) J; ABR-201007033.R3; Columbia Township, Bradford County, Pa.; Consumptive Use of Up to 6.0000 mgd; Approval Date: September 19, 2025.

17. RENEWAL—Seneca Resources Company, LLC; Pad ID: C09-J; ABR-201507002.R2; Shippen Township, Cameron County; Sergeant Township, McKean County; and Jones Township, Elk County, Pa.; Consumptive Use of Up to 4.0000 mgd; Approval Date: September 19, 2025.

18. RENEWAL—XTO Energy Inc.; Pad ID: MARQUARDT 8534H; ABR-20100664.R3; Penn Township, Lycoming County, Pa.; Consumptive Use of Up to 4.0000 mgd; Approval Date: September 19, 2025.

19. RENEWAL—EQT ARO LLC; Pad ID: COP Tr 285 Pad G; ABR-201007002.R3; Grugan Township, Clinton County, Pa.; Consumptive Use of Up to 4.0000 mgd; Approval Date: September 24, 2025.

20. RENEWAL—EQT ARO LLC; Pad ID: COP Tr 289 C; ABR-20100636.R3; McHenry Township, Lycoming County, Pa.; Consumptive Use of Up to 4.0000 mgd; Approval Date: September 24, 2025.

21. RENEWAL—EQT ARO LLC; Pad ID: David C Duncan Pad A; ABR-20100635.R3; Cascade Township, Lycoming County, Pa.; Consumptive Use of Up to 4.0000 mgd; Approval Date: September 24, 2025.

22. RENEWAL—Expand Operating LLC; Pad ID: Alberta; ABR-201009007.R3; Albany Township, Bradford County, Pa.; Consumptive Use of Up to 7.5000 mgd; Approval Date: September 24, 2025.

23. RENEWAL—Expand Operating LLC; Pad ID: Allen Drilling Pad #1; ABR-201009002.R3; Asylum Township, Bradford County, Pa.; Consumptive Use of Up to 7.5000 mgd; Approval Date: September 24, 2025.

24. RENEWAL—Expand Operating LLC; Pad ID: Burleigh; ABR-201009067.R3; Wyalusing Township, Bradford County, Pa.; Consumptive Use of Up to 7.5000 mgd; Approval Date: September 24, 2025.

25. RENEWAL—Expand Operating LLC; Pad ID: Hemlock Hunting Club Drilling Pad #1; ABR-201009070.R3; Elkland Township, Sullivan County, Pa.; Consumptive Use of Up to 7.5000 mgd; Approval Date: September 24, 2025.

26. RENEWAL—Expand Operating LLC; Pad ID: Shaw; ABR-20100634.R3; Windham Township, Wyoming County, Pa.; Consumptive Use of Up to 7.5000 mgd; Approval Date: September 24, 2025.

27. RENEWAL—Expand Operating LLC; Pad ID: Wygrala; ABR-201009072.R3; Wysox Township, Bradford County, Pa.; Consumptive Use of Up to 7.5000 mgd; Approval Date: September 24, 2025.

28. RENEWAL—Range Resources—Appalachia, LLC; Pad ID: Shohocken Hunt Club Unit #1H—#6H; ABR-20100646.R3; Cummings Township, Lycoming County, Pa.; Consumptive Use of Up to 4.0000 mgd; Approval Date: September 24, 2025.

29. RENEWAL—Repsol Oil & Gas USA, LLC; Pad ID: GARDINER (01 071) D; ABR-20100522.R3; Troy Township, Bradford County, Pa.; Consumptive Use of Up to 6.0000 mgd; Approval Date: September 24, 2025.

30. Range Resources—Appalachia, LLC; Pad ID: Dog Run Hunting Club—Unit; ABR-202509002; Cummings Township, Lycoming County, Pa.; Consumptive Use of Up to 4.0000 mgd; Approval Date: September 29, 2025.

31. RENEWAL—Coterra Energy Inc.; Pad ID: GriffithsJ P1; ABR-202009004.R1; Rush Township, Susquehanna County, Pa.; Consumptive Use of Up to 5.0000 mgd; Approval Date: September 29, 2025.

32. RENEWAL—Expand Operating LLC; Pad ID: Robinson; ABR-20100653.R3; Stevens Township, Bradford County, Pa.; Consumptive Use of Up to 7.5000 mgd; Approval Date: September 29, 2025.

33. RENEWAL—Coterra Energy Inc.; Pad ID: ArnoneJ P1; ABR-201507004.R2; Brooklyn Township, Susquehanna County, Pa.; Consumptive Use of Up to 5.0000 mgd; Approval Date: October 21, 2025.

34. RENEWAL—Coterra Energy Inc.; Pad ID: BistisM P1; ABR-201507005.R2; Lathrop Township, Susquehanna County, Pa.; Consumptive Use of Up to 5.0000 mgd; Approval Date: October 21, 2025.

35. RENEWAL—Diversified Production LLC; Pad ID: Phoenix E; ABR-201008130.R3; Duncan Township, Tioga County, Pa.; Consumptive Use of Up to 3.0000 mgd; Approval Date: October 21, 2025.

36. RENEWAL—EQT ARO LLC; Pad ID: Ann M. Mercier Pad A; ABR-201007071.R3; Cogan House Township, Lycoming County, Pa.; Consumptive Use of Up to 4.0000 mgd; Approval Date: October 21, 2025.

37. RENEWAL—EQT ARO LLC; Pad ID: COP Tr 231 D; ABR-20100530.R3; Snow Shoe Township, Centre County, Pa.; Consumptive Use of Up to 4.0000 mgd; Approval Date: October 21, 2025.

38. RENEWAL—EQT ARO LLC; Pad ID: COP Tr 685 A; ABR-20100541.R3; Cummings Township, Lycoming County, Pa.; Consumptive Use of Up to 4.0000 mgd; Approval Date: October 21, 2025.

39. RENEWAL—EQT ARO LLC; Pad ID: Larry's Creek F&G Pad D; ABR-20100684.R3; Cummings Township, Lycoming County, Pa.; Consumptive Use of Up to 4.0000 mgd; Approval Date: October 21, 2025.

40. RENEWAL—Expand Operating LLC; Pad ID: Hopson; ABR-201010004.R3; Asylum Township, Bradford County, Pa.; Consumptive Use of Up to 7.5000 mgd; Approval Date: October 21, 2025.

41. RENEWAL—Expand Operating LLC; Pad ID: Warburton North Drilling Pad; ABR-201510003.R2; Forks Township, Sullivan County, Pa.; Consumptive Use of Up to 7.5000 mgd; Approval Date: October 21, 2025.

42. RENEWAL—Pennhills Resources, LLC; Pad ID: Shannon Todd Pad A; ABR-201009006.R3; Todd Township, Huntingdon County, Pa.; Consumptive Use of Up to 3.0000 mgd; Approval Date: October 21, 2025.

43. RENEWAL—Repsol Oil & Gas USA, LLC; Pad ID: SHEDDEN (01 075) L; ABR-201007004.R3; Granville Township, Bradford County, Pa.; Consumptive Use of Up to 6.0000 mgd; Approval Date: October 21, 2025.

44. RENEWAL—Seneca Resources Company, LLC; Pad ID: Abplanalp; ABR-201510001.R2; Westfield Township, Tioga County, Pa.; Consumptive Use of Up to 4.0000 mgd; Approval Date: October 21, 2025.

45. RENEWAL—Seneca Resources Company, LLC; Pad ID: Barbine 292; ABR-20100614.R3; Charleston Township, Tioga County, Pa.; Consumptive Use of Up to 4.0000 mgd; Approval Date: October 21, 2025.

46. RENEWAL—Seneca Resources Company, LLC; Pad ID: Doan 893; ABR-20100670.R3; Deerfield Township, Tioga County, Pa.; Consumptive Use of Up to 4.0000 mgd; Approval Date: October 21, 2025.

47. RENEWAL—Seneca Resources Company, LLC; Pad ID: E17-COP-C; ABR-201008027.R3; Lawrence Township, Clearfield County, Pa.; Consumptive Use of Up to 4.0000 mgd; Approval Date: October 21, 2025.

48. RENEWAL—Expand Operating LLC; Pad ID: Yvonne; ABR-201010015.R3; Rush Township, Susquehanna County, Pa.; Consumptive Use of Up to 7.5000 mgd; Approval Date: October 28, 2025.

49. RENEWAL—LPR Energy, LLC ; Pad ID: Lightner Drilling Pad #1; ABR-201007045.R3; Juniata Township, Blair County, Pa.; Consumptive Use of Up to 2.0000 mgd; Approval Date: October 28, 2025.

50. RENEWAL—LPR Energy, LLC ; Pad ID: Shannon Land & Mining Drilling Pad #1; ABR-20100628.R3; Lawrence Township, Clearfield County, Pa.; Consumptive Use of Up to 2.0000 mgd; Approval Date: October 28, 2025.

51. RENEWAL—Seneca Resources Company, LLC; Pad ID: Covington Pad L; ABR-201008065.R3; Covington Township, Tioga County, Pa.; Consumptive Use of Up to 4.0000 mgd; Approval Date: October 28, 2025.

52. RENEWAL—Seneca Resources Company, LLC; Pad ID: Frost 573; ABR-201007013.R3; Covington Township, Tioga County, Pa.; Consumptive Use of Up to 4.0000 mgd; Approval Date: October 28, 2025.

53. RENEWAL—Seneca Resources Company, LLC; Pad ID: Hauswirth 516; ABR-20100688.R3; Richmond Township, Tioga County, Pa.; Consumptive Use of Up to 4.0000 mgd; Approval Date: October 28, 2025.

54. RENEWAL—Seneca Resources Company, LLC; Pad ID: Painter; ABR-201510002.R2; Westfield Township, Tioga County, Pa.; Consumptive Use of Up to 4.0000 mgd; Approval Date: October 28, 2025.

55. RENEWAL—Seneca Resources Company, LLC; Pad ID: Sorensen 876; ABR-201007021.R3; Osceola Township, Tioga County, Pa.; Consumptive Use of Up to 4.0000 mgd; Approval Date: October 28, 2025.

56. RENEWAL—Seneca Resources Company, LLC; Pad ID: Matz 824; ABR-201007010.R3; Chatham Township, Tioga County, Pa.; Consumptive Use of Up to 4.0000 mgd; Approval Date: October 29, 2025.

57. RENEWAL—Coterra Energy Inc.; Pad ID: AdamsJ P1; ABR-201007121.R3; Harford Township, Susquehanna County, Pa.; Consumptive Use of Up to 5.0000 mgd; Approval Date: October 30, 2025.

58. RENEWAL—Coterra Energy Inc.; Pad ID: DavisG P1; ABR-201007120.R3; Gibson Township, Susquehanna County, Pa.; Consumptive Use of Up to 5.0000 mgd; Approval Date: October 30, 2025.

59. RENEWAL—Coterra Energy Inc.; Pad ID: PlonskiJ P1; ABR-201008009.R3; Brooklyn Township, Susquehanna County, Pa.; Consumptive Use of Up to 5.0000 mgd; Approval Date: October 30, 2025.

60. RENEWAL—EQT ARO LLC; Pad ID: COP Tr 285 Pad D; ABR-201008013.R3; Chapman Township, Clinton County, Pa.; Consumptive Use of Up to 4.0000 mgd; Approval Date: October 30, 2025.

61. RENEWAL—Expand Operating LLC; Pad ID: Ball; ABR-201007060.R3; Stevens Township, Bradford County, Pa.; Consumptive Use of Up to 7.5000 mgd; Approval Date: October 30, 2025.

62. RENEWAL—Expand Operating LLC; Pad ID: NR-19-Walker Diehl; ABR-201507003.R2; Oakland Township, Susquehanna County, Pa.; Consumptive Use of Up to 7.5000 mgd; Approval Date: October 30, 2025.

63. RENEWAL—Repsol Oil & Gas USA, LLC; Pad ID: FEUSNER (03 044) J; ABR-201007094.R3; Columbia Township, Bradford County, Pa.; Consumptive Use of Up to 6.0000 mgd; Approval Date: October 30, 2025.

64. RENEWAL—Repsol Oil & Gas USA, LLC; Pad ID: WATSON (03 051) B; ABR-201007084.R3; Columbia Township, Bradford County, Pa.; Consumptive Use of Up to 6.0000 mgd; Approval Date: October 30, 2025.

65. RENEWAL—Seneca Resources Company, LLC; Pad ID: Hamblin 860; ABR-201007117.R3; Middlebury Township, Tioga County, Pa.; Consumptive Use of Up to 4.0000 mgd; Approval Date: October 30, 2025.

66. RENEWAL—Seneca Resources Company, LLC; Pad ID: Wood 874; ABR-201007069.R3; Deerfield Township, Tioga County, Pa.; Consumptive Use of Up to 4.0000 mgd; Approval Date: October 30, 2025.

67. RENEWAL—Coterra Energy Inc.; Pad ID: LambertR P1; ABR-201507006.R2; Gibson Township, Susquehanna County, Pa.; Consumptive Use of Up to 5.0000 mgd; Approval Date: October 31, 2025.

68. RENEWAL—EOG Resources, Inc.; Pad ID: KINGSLEY 2H; ABR-20100692.R3; Springfield Township, Bradford County, Pa.; Consumptive Use of Up to 3.0000 mgd; Approval Date: October 31, 2025.

69. RENEWAL—EQT ARO LLC; Pad ID: Brian K Frymire Pad A; ABR-201008056.R3; Cascade Township, Lycoming County, Pa.; Consumptive Use of Up to 4.0000 mgd; Approval Date: October 31, 2025.

70. RENEWAL—EQT ARO LLC; Pad ID: COP Tr 356 Pad H; ABR-201008020.R3; Cummings Township, Lycoming County, Pa.; Consumptive Use of Up to 4.0000 mgd; Approval Date: October 31, 2025.

71. RENEWAL—EXCO Resources (PA), LLC; Pad ID: COP Tract 706 (Pad 8); ABR-201008059.R3; Burnside Township, Centre County, Pa.; Consumptive Use of Up to 8.0000 mgd; Approval Date: October 31, 2025.

72. RENEWAL—Expand Operating LLC; Pad ID: SGL-12 L SOUTH UNIT PAD; ABR-202010001.R1; Leroy Township, Bradford County, Pa.; Consumptive Use of Up to 7.5000 mgd; Approval Date: October 31, 2025.

73. RENEWAL—Repsol Oil & Gas USA, LLC; Pad ID: CUMMINGS LUMBER (01 081); ABR-201007088.R3; Troy Township, Bradford County, Pa.; Consumptive Use of Up to 6.0000 mgd; Approval Date: October 31, 2025.

74. RENEWAL—Repsol Oil & Gas USA, LLC; Pad ID: WARNER VALLEY FARM LLC (05 002); ABR-201007130.R3; Pike Township, Bradford County, Pa.; Consumptive Use of Up to 6.0000 mgd; Approval Date: October 31, 2025.

75. RENEWAL—Seneca Resources Company, LLC; Pad ID: Clark 392; ABR-201008004.R3; Delmar Township, Tioga County, Pa.; Consumptive Use of Up to 4.0000 mgd; Approval Date: October 31, 2025.

76. RENEWAL—Seneca Resources Company, LLC; Pad ID: Fish 301; ABR-201008034.R3; Richmond Township, Tioga County, Pa.; Consumptive Use of Up to 4.0000 mgd; Approval Date: October 31, 2025.

(Authority: Pub. L. 91-575, 84 Stat. 1509 et seq., 18 CFR parts 806 and 808.)

Dated: November 18, 2025.
Jason E. Oyler,
General Counsel and Secretary to the Commission.

[FR Doc. 2025-20469 Filed 11-19-25; 8:45 am]

BILLING CODE 7040-01-P